DEPARTMENT OF HEALTH AND HUMAN SERVICES

Centers for Disease Control and Prevention

[30Day-18-1039]

Agency Forms Undergoing Paperwork Reduction Act Review

In accordance with the Paperwork Reduction Act of 1995, the Centers for Disease Control and Prevention (CDC) has submitted the information collection request titled Information Collection on Cause-Specific Absenteeism in Schools and Evaluation of Influenza Transmission within Student Households to the Office of Management and Budget (OMB) for review and approval. CDC previously published a “Proposed Data Collection Submitted for Public Comment and Recommendations” notice on April 27, 2017 to obtain comments from the public and affected agencies. CDC received two comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW., Washington, DC 20503 or by fax to (202) 395-5806. Provide written comments within 30 days of notice publication.

Proposed Project

Information Collection on Cause-Specific Absenteeism in Schools and Evaluation of Influenza Transmission within Student Households—Revision—National Center for Emerging and Zoonotic Infectious Diseases (NCEZID), Centers for Disease Control and Prevention (CDC).

Background and Brief Description

The CDC requests approval of a revised information collection to improve our understanding of the role of influenza-like illness (ILI)-specific absenteeism in schools in predicting community-wide influenza transmission and to detect within-household transmission of influenza in households from which a student has been absent from school due to ILI.

This information collection request aligns DGMQ/CDC's mission to reduce morbidity and mortality in mobile populations, and to prevent the introduction, transmission, or spread of communicable diseases within the United States. Insights gained from this information collection will assist in pandemic preparedness planning and implementation of CDC Pre-Pandemic Guidance on the use of school related measures, including school closures, to slow transmission during an influenza pandemic.

School closures were considered an important measure during the earliest stage of the 2009 H1N1 pandemic, because a pandemic vaccine was not available until October (six months later), and sufficient stocks to immunize all school-age children were not available until December. However, retrospective review of the U.S. government response to the pandemic identified a limited evidence-base regarding the effectiveness, acceptability, and feasibility of various school related measures during mild or moderately severe pandemics. Guidance updates will require an evidence-based rationale for determining the appropriate triggers, timing, and duration of school related measures, including school closures, during a pandemic.

CDC staff proposes that the information collection for this project will target adult and child populations in a school district in Wisconsin. CDC will collect reports of individual student symptoms, vaccination status, recent travel, recent exposure to people with influenza symptoms, and duration of illness. In accordance with the revised proposal, CDC will also collect reports on household composition, and influenza vaccination status; symptoms and severity of illness; related healthcare visits; and missed work or school of the participating students' household members. This information accomplished through telephone and in-person interviews.

CDC will use findings obtained from this information to inform and update CDC's Pre-pandemic Guidance on the implementation of school related measures to prevent the spread of influenza, especially school closures. Both state and local health departments in the United States use this guidance as an important planning and reference tool.

CDC has enrolled in the study 651 students absent from school due to ILI since gaining OMB approval in December 2014, 651 students absent from school due to ILI. Of them, 58% were positive for at least one respiratory pathogen included in the PCR panel that tests for the presence of 17 common respiratory viruses, and 27% of the students were found to be positive for influenza. It was demonstrated that absenteeism due to ILI in school children was highly correlated with PCR-confirmed influenza in enrolled school children (r = 0.73; P < 0.001) and with medically-attended influenza in the surrounding community (r = 0.72; P < 0.001) suggesting that ILI-specific school absenteeism can be considered a useful tool for predicting influenza outbreaks in the surrounding community. However, researchers require more observations during influenza seasons caused by other influenza strains to make these findings more robust.

This revision adds a household transmission component to the ongoing approved information collection. In addition to collecting data and biospecimens from students who were absent from school because of the ILI, information and biospecimens will also be collected from household members of these students. This revision aims to enhance current knowledge and understanding of introduction of influenza infection to households that have school-age children as well as within-household transmission.

There are no costs to the respondents other than their time. The total estimated annual burden hours are 419.

Estimated Annualized Burden Hours
Type of respondents | Form name | Number of respondents | Number of responses per respondent | Average burden per response (in hours)
Parents of children/adolescents or adult students (≥18 yo) attending schools | Screening Form Acute Respiratory Infection and Influenza Surveillance Form | 345 300 | 1 1 | 5/60 15/60
| Household Study Form | 300 | 1 | 5/60
Student | Biospecimen collection | 300 | 2 | 5/60
Household members | Household Study Form | 720 | 2 | 10/60

Leroy A. Richardson,
Chief, Information Collection Review Office, Office of Scientific Integrity, Office of the Associate Director for Science, Office of the Director, Centers for Disease Control and Prevention.

[FR Doc. 2017-24315 Filed 11-7-17; 8:45 am]

BILLING CODE 4163-18-P